NATIONAL SCIENCE FOUNDATION

Sunshine Act Meeting

SUMMARY: The National Science Board's Committee on External Engagement, pursuant to NSF regulations, the National Science Foundation Act, as amended, and the Government in the Sunshine Act, hereby gives notice of the scheduling of a teleconference for the transaction of National Science Board business, as follows.

TIME AND DATE: Wednesday, July 15, 2020, at 1:30-2:15 p.m. EDT.

PLACE: This meeting will be held by teleconference. An audio link will be available for the public upon request at nationalsciencebrd@nsf.gov. Email requests must be made one day in advance.

STATUS: Open.

MATTERS TO BE CONSIDERED: Committee chair's remarks; orientation for new members; discussion of priorities; and organizing into subgroups to work on specific initiatives.

CONTACT PERSON FOR MORE INFORMATION: Point of contact for this meeting is: Chris Blair, cblair@nsf.gov, 703-292-7000. To listen to this teleconference, members of the public must send an email to nationalsciencebrd@nsf.gov at least 24 hours prior to the teleconference. The National Science Board Office will send requesters a link to the audio. Meeting information and updates may be found at http://www.nsf.gov/nsb/notices.jsp#sunshine. Please refer to the National Science Board website at www.nsf.gov/nsb for general information.

Chris Blair,
Executive Assistant to the National Science Board Office.

[FR Doc. 2020-14974 Filed 7-7-20; 4:15 pm]

BILLING CODE 7555-01-P